DEPARTMENT OF THE INTERIOR

Bureau of Land Management

[L51010000.FX0000.LVRWA11A2990. LLAZP02000.XXX; AZA35079]

Notice of Availability of the Final Environmental Impact Statement for the Proposed Sun Valley to Morgan Transmission Line Project (Formerly Called TS-5 to TS-9) and the Proposed Bradshaw-Harquahala Resource Management Plan Amendment, AZ

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Final Environmental Impact Statement (EIS) for the proposed Sun Valley to Morgan 500/230-kilovolt (kV) Transmission Line Project (Project) and Proposed Bradshaw-Harquahala Resource Management Plan (RMP) Amendment for the BLM Hassayampa Field Office, and by this notice is announcing its availability.

DATES: BLM planning regulations state that any person who meets the conditions as described in the regulations may protest the BLM's Proposed RMP Amendment/Final EIS. A person who meets the conditions must file the protest within 30 days of the date that the Environmental Protection Agency publishes its notice in the Federal Register.

ADDRESSES: Copies of the Final EIS and Proposed RMP Amendment have been sent to affected Federal, State, and local government agencies and to other stakeholders. Copies of the Final EIS/Proposed RMP Amendment are available for public inspection at local libraries and the BLM Hassayampa Field Office.

Interested persons may also review the Final EIS/Proposed RMP Amendment on the Internet at http://www.blm.gov/az/st/en/prog/energy/aps-sunvalley.html. All protests must be in writing and mailed to one of the following addresses:

Regular Mail: BLM Director (210), Attention: Brenda Hudgens-Williams, P.O. Box 71383, Washington, DC 20024.

Overnight Mail: BLM Director (210), Attention: Brenda Hudgens-Williams, 20 M Street SE., Room 2134 LM, Washington, DC 20024.

FOR FURTHER INFORMATION CONTACT: Joe Incardine, BLM National Project Manager, telephone 801-539-4118; address BLM Phoenix District Office, Hassayampa Field Office, 21605 North 7th Avenue, Phoenix, AZ 85027-2929; email jincardi@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Arizona Public Service Company (APS) submitted a right-of-way (ROW) application to construct, operate, and maintain a 500/230-kV overhead transmission line from the Sun Valley Substation to the Morgan Substation in Maricopa County. The APS was reacting to a decision in 2009 by the Arizona Corporation Commission, the line-siting authority in the State, to certificate a route that includes the BLM-managed lands.

The proposed Project would be located on a combination of BLM-managed lands, Arizona State Trust lands, and private lands in northern Maricopa County, northwest of Phoenix, Arizona. The proposed Project is an overhead transmission line, approximately 38 miles long, on monopole structures. The BLM-managed lands within the Project area are managed under the existing Bradshaw-Harquahala RMP.

Environmental and social concerns and issues were identified through both the initial public scoping and Draft EIS/Draft RMP Amendment comment periods. The issues addressed in the EIS that shaped the Project's scope and alternatives include:

• Land Use Plan conformance;

• Need and reliability;

• Project design features, mitigation measures, and alternatives;

• Air and climate;

• Biological resources;

• Cultural resources;

• Health and safety;

• Recreation;

• Socioeconomic and environmental justice;

• Scenic/Visual; and

• Transportation and traffic.

In addition to the Proposed Action and No Action Alternative, three action alternative routes and one sub-alternative route (as proposed by the Arizona State Land Department) were analyzed in detail in the EIS. As proposed, the Project would require an RMP Amendment because the current RMP requires high-voltage transmission lines crossing BLM-managed lands to be within designated utility corridors, and a utility corridor for the proposed ROW was not established in the current RMP. However, the Proposed Action is within a transportation corridor which is designated for the expansion of State Route 74. In addition, the Visual Resource Management (VRM) class designation would need to be amended from Class III to Class IV for those BLM-managed lands where views would be dominated by the transmission line and thus would not meet the objectives of the current VRM designation. The VRM class would also be changed for those BLM-managed lands south of State Route (SR) 74 surrounding the proposed transmission line ROW (i.e., the existing transportation corridor north of SR 74 and the key-shaped piece south of SR 74).

An interdisciplinary approach was used to develop the Final EIS in order to consider the variety of resource issues and concerns identified. An amendment to the Bradshaw-Harquahala RMP would be based upon the following planning criteria:

• The amendment would be completed in compliance with FLPMA, NEPA, and all other relevant Federal laws, executive orders, and management policies of the BLM;

• Where existing planning decisions are still valid, those decisions would remain unchanged and be incorporated into the new amendment; and

• The amendment would recognize valid existing rights.

The BLM has identified the Proposed Action route (with slight modifications as needed to reduce potential impacts) crossing BLM-managed lands as the Agency Preferred Alternative route for the proposed transmission line, including best management practices (BMPs). The BMPs would consist of minor route deviations for micro-siting of structures or segments of the line at the time of route engineering to reduce impacts to visual and other sensitive resources.

Under the Agency Preferred Alternative, the BLM would amend the RMP to:

• Designate a 200-foot-wide utility corridor (2,362 acres) on BLM-managed lands north of SR 74, and eliminate Decision LR-30, which states that there would be no new utility corridors designated in the Castle Hot Springs Management Unit;

• Designate a multiuse utility corridor on 1,013 acres of BLM-managed lands south of SR 74 (key shaped area) to address potential future BLM management considerations; and

• Change the existing VRM class designations of 2,362 acres north of SR 74 and 1,013 acres south of SR 74 from VRM Class III to VRM Class IV to allow for the newly established utility corridors.

If the BLM approves the RMP Amendment, the BLM would also approve a ROW on BLM-managed lands.

The BLM has utilized the NEPA comment period to satisfy the public involvement process for Section 106 of the National Historic Preservation Act (16 U.S.C. 470) as provided for in 36 CFR 800.2(d)(3). Native American tribal consultations will continue to be conducted in accordance with policy, and tribal concerns, including impacts on Indian trust assets, will be given due consideration.

Comments on the Draft EIS/Draft RMP Amendment received from the public and internal BLM review were considered, and document revisions were incorporated as appropriate into the Final EIS/Proposed RMP Amendment. Public comments resulted in the addition of clarifying text, but did not result in significant changes to the proposed Project, the Proposed RMP Amendment, or the impact analysis between the Draft and Final EIS.

Instructions for filing a protest with the BLM Director regarding the Final EIS/Proposed RMP Amendment may be found in the “Dear Reader” Letter of the APS Sun Valley to Morgan Transmission Line Project Final EIS and Proposed RMP Amendment and at 43 CFR 1610.5-2. Emailed protests will not be accepted as valid protests unless the protesting party also provides the original letter by either regular or overnight mail postmarked by the close of the protest period. Under these conditions, the BLM will consider the emailed protest as an advance copy and it will receive full consideration. If you wish to provide the BLM with such advance notification, please direct email protests to the attention of the BLM protest coordinator Brenda Hudgens-Williams at bhudgens@blm.gov.

All protests must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Raymond Suazo,
State Director.

[FR Doc. 2013-17226 Filed 7-18-13; 8:45 am]

BILLING CODE 4310-32-P